DEPARTMENT OF ENERGY

Federal Energy Regulatory Commission

[Docket Nos. EL05-10-000, EL05-11-000, EL05-12-000, EL05-13-000]

Pinnacle West Capital Corporation, Arizona Public Service Company, Pinnacle West Energy Corporation, APS Energy Services Company, Inc.; Notice of Initiation of Proceeding and Refund Effective Date

December 21, 2004.

On December 20, 2004, the Commission issued an order in the above-docketed proceedings. The Commission's order institutes proceedings in Docket Nos. EL05-10-000, EL05-11-000, EL05-12-000 and EL05-13-000 under section 206 of the Federal Power Act with respect to the justness and reasonableness of the market-based rates of Pinnacle West Capital Corporation, Arizona Public Service Corporation, Pinnacle West Energy Corporation and APS Energy Services Company, Inc.

The refund effective date in Docket Nos. EL05-10-000, EL05-11-000, EL05-12-000 and EL05-13-000, established pursuant to section 206(b) of the Federal Power Act will be 60 days following publication of this notice in the Federal Register.

Magalie R. Salas,
Secretary.

[FR Doc. E4-3844 Filed 12-28-04; 8:45 am]

BILLING CODE 6717-01-P